DEPARTMENT OF TRANSPORTATION

Office of the Secretary

Aviation Proceedings, Agreements Filed the Week Ending March 28, 2003

The following Agreements were filed with the Department of Transportation under the provisions of 49 U.S.C. 412 and 414. Answers may be filed within 21 days after the filing of the application.

Docket Number: OST-2003-14811.

Date Filed: March 26, 2003.

Parties: Members of the International Air Transport Association.

Subject: PTC2 EUR 0506 dated 28 March 2003. Mail Vote 286—Resolution 010y TC2 Within Europe Special Passenger Amending Resolution from Italy to Europe. Intended effective date: 1 April 2003.

Docket Number: OST-2003-14816.

Date Filed: March 27, 2003.

Parties: Members of the International Air Transport Association.

Subject: PTC2 EUR 0508 dated 28 March 2003. Mail Vote 289—Resolution 010b. TC2 Within Europe Special Passenger Amending Resolution. from Croatia to Europe.

Intended effective date: 10 April 2003.

Docket Number: OST-2003-14817.

Date Filed: March 27, 2003.

Parties: Members of the International Air Transport Association.

Subject: PTC COMP 1020 dated 21 March 2003 Resolutions r1-r13. PTC COMP 1021 dated 21 March 2003 Resolutions r14r38.

PTC COMP 1023 dated 25 March 2003 Technical Correction. PTC COMP 1025 dated 28 March 2003 Technical Correction. PTC COMP 1026 dated 28 March 2003 Technical Correction. Minutes—PTC COMP 1022 dated 25 March 2003. Intended effective date: 15 April 2003.

Docket Number: OST-2003-14818.

Date Filed: March 27, 2003.

Parties: Members of the International Air Transport Association.

Subject: Mail Vote 278.

PTC12 NMS-AFR 0160 dated 14 March 2003. North Atlantic-Africa Resolutions r1-r20. Minutes—PTC12 NMS-AFR 0163 dated 21 March 2003. Tables—PTC12 NMS-AFR Fares 0081 dated 21 March 2003. Intended effective date: 1 May 2003.

Dorothy Y. Beard,
Chief, Docket Operations & Media Management, Federal Register Liaison.

[FR Doc. 03-8375 Filed 4-4-03; 8:45 am]

BILLING CODE 4910-62-P